FEDERAL COMMUNICATIONS COMMISSION

Radio Broadcasting Services; AM or FM Proposals To Change the Community of License

AGENCY: Federal Communications Commission.

ACTION: Notice.

SUMMARY: The following applicants filed AM or FM proposals to change the community of license: CBS RADIO ANNAPOLIS LLC, Station WLZL, Facility ID 20983, BMPH-20131022ALD, From ANNAPOLIS, MD, To COLLEGE PARK, MD; FAMILY LIFE MINISTRIES, INC., Station WCIK, Facility ID 20631, BPH-20130924AJT, From BATH, NY, To AVOCA, NY; PRITCHARD BROADCASTING CORPORATION, Station WQKQ, Facility ID 7635, BPH-20130930BFH, From CARTHAGE, IL, To DALLAS CITY, IL; SMILE FM, Station WKKM, Facility ID 93344, BPED-20130814ADM, From SPEAKER TOWNSHIP, MI, To GRANT TOWNSHIP, MI; SOUTHERN ELECTRONICS COMPANY, INC., Station WONA-FM, Facility ID 61281, BPH-20130620AAY, From WINONA, MS, To SHERMAN, MS; SOUTHERN WABASH COMMUNICATIONS OF MIDDLE TENNESSEE, INC., Station WBGB, Facility ID 172966, BPED-20130909AAI, From SCOTTSVILLE, KY, To PORTLAND, TN; SSR COMMUNICATIONS, INC., Station KIMW, Facility ID 191575, BMPH-20130913ACG, From HAYNESVILLE, LA, To HEFLIN, LA; THE MONTANA RADIO COMPANY, LLC, Station KKRK, Facility ID 189560, BPH-20130918ADF, From WHITEHALL, MT, To HELENA VALLEY SE., MT; THE MONTANA RADIO COMPANY, LLC, Station KIMO, Facility ID 83110, BPH-20130918ADH, From HELENA VALLEY SE., MT, To TOWNSEND, MT.

DATES: The agency must receive comments on or before January 17, 2014.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-800-378-3160 or www.BCPIWEB.com.

Federal Communications Commission.
James D. Bradshaw,
Deputy Chief, Audio Division, Media Bureau.

[FR Doc. 2013-27576 Filed 11-15-13; 8:45 am]

BILLING CODE 6712-01-P